DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed extension of the “Occupational Requirements Survey.” A copy of the proposed information collection request can be obtained by contacting the individual listed below in the ADDRESSES section of this notice.

DATES: Written comments must be submitted to the office listed in the ADDRESSES section of this notice on or before March 29, 2021.

ADDRESSES: Send comments to Nora Kincaid, BLS Clearance Officer, Division of Management Systems, Bureau of Labor Statistics, Room 4080, 2 Massachusetts Avenue NE, Washington, DC 20212. Written comments also may be transmitted by email to BLS_PRA_Public@bls.gov.

FOR FURTHER INFORMATION CONTACT: Nora Kincaid, BLS Clearance Officer, at 202-691-7628 (this is not a toll free number). (See ADDRESSES section.)

SUPPLEMENTARY INFORMATION:

I. Background

The Occupational Requirements Survey (ORS) is a nationwide survey that the Bureau of Labor Statistics (BLS) is conducting at the request of the Social Security Administration (SSA). Three years of data collection and capture for the ORS will start in 2021 and end in mid-2024.

Estimates produced from the data collected by the ORS will be used by the SSA to update occupational requirements data for administering the Social Security Disability Insurance (SSDI) and Supplemental Security Income (SSI) programs.

The ORS occupational information will allow SSA adjudicators to clearly associate the assessment of a claimant's physical and mental functional capacity and vocational profile with work requirements. BLS will compute percentages of workers with various characteristics, such as skill and strength level. SSA will use this information to provide statistical support for the medical-vocational rules used at step 5 of sequential evaluation regarding the number of unskilled jobs that exist at each level of exertion in the national economy.

The Social Security Administration, Members of Congress, and representatives of the disability community have all identified collection of updated information on the requirements of work in today's economy as crucial to the equitable and efficient operation of the Social Security Disability (SSDI) program.

The ORS collects data from a sample of employers. These requirements of work data consist of information about the duties, responsibilities, and critical job tasks for a sample of occupations for each sampled employer.

II. Current Action

Office of Management and Budget clearance is being sought for the Occupational Requirements Survey.

The ORS collects data on the requirements of work, as defined by the SSA's disability program:

(1) An indicator of “time to proficiency,” defined as the amount of time required by a typical worker to learn the techniques, acquire the information, and develop the facility needed for average job performance, comparable to the Specific Vocational Preparation (SVP) used in the Dictionary of Occupational Titles (DOT).

(2) Physical Demand characteristics/factors of occupations, measured in such a way to support SSA disability determination needs, comparable to measures in Appendix C of the Selected Characteristics of Occupations (SCO).

(3) Environmental Conditions, measured in such a way to support SSA disability determination needs, comparable to measures in Appendix D of the SCO.

(4) Data elements that describe the mental and cognitive demands of work.

(5) Occupational task lists of occupations, defined as the critical job function and key job tasks, to validate the reported requirements of work, comparable to data identified in the Employment and Training Administration's (ETA's) O*NET Program.

The ORS data is collected using a two-stage stratified design and includes sample cell definitions and allocations to accommodate the goal to produce estimates for as many occupations as possible. Occupations for private industry establishments are selected before the sample is fielded. Occupational selection for government units generally occurs after establishment contact. The probability of an occupation being selected after the sample is fielded will be proportionate to its employment within the establishment.

BLS will disseminate the data from the ORS on the BLS public website (www.bls.gov/ors). The design uses a five-year rotation with complete estimates published after the full sample has been collected. Interim results will be produced and disseminated on an annual basis.

ORS collection uses several forms (having unique private industry and government collection versions). For those sampled establishments that are in the current National Compensation Survey (NCS), ORS uses NCS data and forms for those data elements that overlap.

ORS data are defined to balance SSA's adjudication needs with the ability of the respondent to provide data. With this clearance, BLS is continuing collection of existing data.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: Occupational Requirements Survey.

OMB Number: 1220-0189.

Type of Review: Extension of a currently approved collection.

Affected Public: Businesses or other for-profit; not-for-profit institutions; and State, local, and tribal government.

All figures in the table below are based on a three-year average.

| Respondents | Average responses per year | Total number of responses | Average minutes | Total hours
Three-year average | 11,200 | 1.04 | 11,700 | 107 | 20,947

Collection Forms
Occupational Requirements Survey (Private Industry Sample) | List form numbers, ORS Form 15-1P, ORS Form 4 PPD-4PF, ORS Form 4 PPD-4PAF | Name form, Establishment Collection Forms for Private Industry.
Occupational Requirements Survey (State and local government sample) | List form numbers, ORS Form 15-1G, ORS Form 4 PPD-4GF, ORS Form 4 PPD-4GAF | Name form, Establishment Collection Forms for Governments.

Comments submitted in response to this notice will be summarized and/or included in the request for Office of Management and Budget approval of the information collection request; they also will become a matter of public record.

Signed at Washington, DC, this 22nd day of January 2021.
Mark Staniorski,
Chief, Division of Management Systems.

[FR Doc. 2021-01855 Filed 1-27-21; 8:45 am]

BILLING CODE 4510-24-P